DEPARTMENT OF TRANSPORTATION

Federal Aviation Administration

14 CFR Part 71

[Docket No. FAA-2010-1325; Airspace Docket No. 10-ASO-40]

Amendment of Class E Airspace; Orangeburg, SC

AGENCY: Federal Aviation Administration (FAA), DOT.

ACTION: Final rule; correction.

SUMMARY: This action corrects the geographic coordinates and state abbreviation of a final rule published in the Federal Register of July 25, 2011, that amends Class E airspace at Orangeburg Municipal Airport, Orangeburg, SC.

DATES: Effective Date 0901 UTC, October 20, 2011.

FOR FURTHER INFORMATION CONTACT: Richard Horrocks, Operations Support Group, Eastern Service Center, Federal Aviation Administration, P.O. Box 20636, Atlanta, Georgia 30320; telephone (404) 305-5588.

SUPPLEMENTARY INFORMATION:

History

Federal Register Docket No. FAA-2010-1325, Airspace Docket No. 10-ASO-40, published in the Federal Register of July 25, 2011 (76 FR 44257), amends Class E airspace at Orangeburg Municipal Airport, Orangeburg, SC. A typographical error was made in the state abbreviation and geographic coordinates of the airport listed in the airspace description. This action corrects that error.

Class E airspace designations are published in paragraph 6005 of FAA Order 7400.9U, dated August 18, 2010 and effective September 15, 2010, which is incorporated by reference in 14 CFR part 71.1.

Correction to Final Rule

Accordingly, pursuant to the authority delegated to me, in FR Doc. 2011-18173 published on July 25, 2011 (76 FR 44257) on page 44257, column 3, line 26, correct the airspace descriptor from “ASO GA E5 Orangeburg, SC [Amended]” to “ASO SC E5 Orangeburg, SC [Amended]”, and on page 44257, column 3, line 28, in the airspace description under Orangeburg Municipal Airport, SC, remove “lat. 33°27′39″ N., long. 80°51′32″ W.” and insert “lat. 33°27′25″ N., long. 80°51′34″ W.”

Issued in College Park, Georgia, on August 19, 2011.
Mark D. Ward,
Manager, Operations Support Group, Eastern Service Center, Air Traffic Organization.

[FR Doc. 2011-23188 Filed 9-9-11; 8:45 am]

BILLING CODE 4910-13-P